DEPARTMENT OF COMMERCE

National Oceanic and Atmospheric Administration

RIN: 0648-XQ67

Fisheries of the South Atlantic; South Atlantic Fishery Management Council; Public Meeting

AGENCY: National Marine Fisheries Service (NMFS), National Oceanic and Atmospheric Administration (NOAA), Commerce.

ACTION: Notice of a public meeting.

SUMMARY: The South Atlantic Fishery Management Council will hold a meeting of its Dolphin Wahoo Advisory Panel in North Charleston, SC. See SUPPLEMENTARY INFORMATION.

DATES: The meeting will take place August 19-20, 2009. See SUPPLEMENTARY INFORMATION.

ADDRESSES: The meeting will be held at the Hilton Garden Inn, 5265 International Boulevard, North Charleston, SC; telephone: (843) 308-9330.

FOR FURTHER INFORMATION CONTACT: Kim Iverson, Public Information Officer, South Atlantic Fishery Management Council, 4055 Faber Place Drive, Suite 201, N. Charleston, SC, 29405; telephone: (843) 571-4366 or toll free (866) SAFMC-10; fax: (843) 769-4520; email: kim.iverson@safmc.net.

SUPPLEMENTARY INFORMATION: Members of the Dolphin Wahoo Advisory Panel will meet from 3:30 p.m. until 5 p.m. on August 19, 2009, and from 8:30 a.m. until 5 p.m. on August 20, 2009.

The Advisory Panel will review actions and management alternatives in the draft Comprehensive Annual Catch Limit Amendment for the South Atlantic Region. The amendment is being prepared in order to meet the requirements of the Reauthorized Magnuson-Stevens Act, including the establishment of Maximum Sustainable Yield (MSY), Allowable Biological Catch (ABC) and Overfishing Levels (OFLs) as recommended by South Atlantic Fishery Management Council's Scientific and Statistical Committee (SSC), Annual Catch Limits (ACLs), Annual Catch Targets (ACTs) and Accountability Measures (AMs) for species currently not listed as undergoing overfishing, including dolphin and wahoo. The amendment will also include alternatives addressing the sale of dolphin from for-hire vessels and minimum size limits for dolphin caught in federal waters off the coasts of North Carolina and South Carolina and in the Mid-Atlantic and New England areas.

The AP will provide recommendations to the Council regarding the alternatives in the draft amendment. The Amendment is being prepared by the South Atlantic Fishery Management Council, with input from the Mid-Atlantic and New England Councils for decisions relative to dolphin and wahoo.

Although non-emergency issues not contained in this agenda may come before this group for discussion, those issues may not be the subject of formal action during this meeting. Action will be restricted to those issues specifically listed in this notice and any issues arising after publication of this notice that require emergency action under section 305(c) of the Magnuson-Stevens Fishery Conservation and Management Act, provided the public has been notified of the Council's intent to take final action to address the emergency.

Special Accommodations

This meeting is physically accessible to people with disabilities. Requests for auxiliary aids should be directed to the council office (see ADDRESSES) 3 days prior to the meeting.

Note: The times and sequence specified in this agenda are subject to change.

Dated: July 29, 2009.
Tracey L. Thompson,
Acting Director, Office of Sustainable Fisheries, National Marine Fisheries Service.

[FR Doc. E9-18412 Filed 7-31-09; 8:45 am]

BILLING CODE 3510-22-S